DEPARTMENT OF TRANSPORTATION

Pipeline and Hazardous Materials Safety Administration

Office of Hazardous Materials Safety; Notice of Applications for Modification of Special Permit

AGENCY: Pipeline and Hazardous Materials Safety Administration, DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before December 4, 2006.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permits is published in accordance with Part 107 of the Federal hazardous materials transportation law (49 U.S.C. 5117(b); 49 CFR 1.53(b)).

Issued in Washington, DC, on November 13, 2006.
Delmer F. Billings,
Director, Office of Hazardous Materials Special Permits and Approvals.

Modification Special Permits
Application No. | Docket No. | Applicant | Regulation(s) affected | Nature of special permit thereof
6530-M |  | Air Products & Chemicals, Inc., Allentown, PA | 49 CFR 173.302(c) | To modify the special permit to authorize an increase in the maximum age of certain DOT Specification 3A, 3AA, 3AX or 3AAX steel cylinders and authorize cargo vessel as a mode of transportation.
6610-M |  | Degussa Initiators, LLC, Elyria, OH | 49 CFR 173.225(e) | To modify the special permit to authorize the transportation in commerce of an additional Division 5.2 Type F material.
10019-M |  | Structural Composites Industries, Pomona, CA | 49 CFR 173.302(a)(1); 175.3 | To modify the special permit to change the retest period from 3 to 5 years for non-DOT specification fiber reinforced plastic full composite cylinders used for the transportation of Division 2.2 materials.
10143-M |  | Eurocom, Inc., Irving, TX | 49 CFR 173.306(a); 178.33a | To modify the exemption to authorize the transportation of additional Division 2.2 materials in a non-refillable non-DOT specification inside metal container.
10590-M |  | ITW/Sexton, Decatur, AL | 49 CFR 173.304(d)(3)(ii); 178.33 | To modify the special permit to authorize the transportation in commerce of certain Division 2.1 gases in non-DOT specification cylinder with a smaller diameter and wall thickness than currently authorized.
11379-M |  | TRW Occupant Safety Systems, Washington, MI | 49 CFR 173.301(h); 173.302 | To modify the special permit for consistency with other air bag special permits.
11380-M |  | Baker Atlas (a division of Baker Hughes, Inc.), Houston, TX | 49 CFR 173.34(d); 178.37-5; 178.37-13; 178.37-15 | To modify the special permit to authorize a new non-DOT specification tank assembly design.
11494-M |  | ARC Automotive, Inc. (Former Grantee: Atlantic Research Corp. Automotive Products Group), Knoxville, TN | 49 CFR 173.301(h); 173.302; 173.306(d)(3) | To modify the special permit for consistency with other air bag special permits.
11506-M |  | Autoliv ASP, Inc., Ogden, UT | 49 CFR 173.301(h); 173.302 | To modify the special permit for consistency with other air bag special permits.
11650-M |  | Autoliv ASP, Inc., Ogden, UT | 49 CFR 173.301; 173.302; 178.65-9 | To modify the special permit for consistency with other air bag special permits.
11777-M | RSPA-15902 | Autoliv ASP, Inc., Ogden, UT | 49 CFR 173.301(h); 173.302 | To modify the special permit for consistency with other air bag special permits.
11993-M | RSPA-3100 | Key Safety Systems, Inc. (formerly BREED Tech.), Lakeland, FL | 49 CFR 173.301(a)(1); 173.302a | To modify the special permit for consistency with other air bag special permits.
12122-M | RSPA-4313 | ARC Automotive, Inc., Knoxville, TN | 49 CFR 173.301(h); 173.302; 173.306(d)(3) | To modify the special permit for consistency with other air bag special permits.
12124-M | RSPA-4309 | TOTAL Petrochemicals USA Inc., Pasadena, TX | 49 CFR 173.242; 178.245-1(c); 178.245-1(d)(4) | To modify the special permit to authorize a new non-DOT specification portable tank comparable to a specification DOT 51 portable tank equipped with vertical outlet and no internal shutoff valve for use in transporting Division 4.2 and 4.3 hazardous materials.
12844-M | RSPA-10753 | Delphi Corporation, Vandalia, OH | 49 CFR 173.301(a)(1); 173.302a(a)(1); 175.3 | To modify the special permit for consistency with other air bag special permits.
13270-M | RSPA-16489 | Takata Corporation, Minato-Ku Tokyo 106-8510 | 49 CFR 173.301(a); 173.302(a); 175.3 | To modify the special permit for consistency with other air bag special permits.
14152-M | PHMSA-20467 | Saes Pure Gas, Inc., San Luis Obispo, CA | 49 CFR 173.187 | To modify the special permit to authorize a change in the minimum and maximum pressures authorized in a non-DOT specification packaging for transporting certain quantities of metal catalyst, classed as Division 4.2.
14167-M | PHMSA-20669 | Trinityrail, Dallas, TX | 49 CFR 173.26; 173.314(c); 179.13 and 179.100-12(c) | To modify the special permit to authorize an alternative fitting design on DOT 105J600W specification tank cars.
14232-M | PHMSA-22248 | Luxfer Gas Cylinders—Composite Cylinder Division, Riverside, CA | 49 CFR 173.302a(a); 173.304a(a); and 180.205 | To modify the special permit to authorize an increase in service life to 30 years for certain carbon composite cylinders for transporting certain Division 2.1 and 2.2 gases.

[FR Doc. 06-9235 Filed 11-16-06; 8:45 am]

BILLING CODE 4909-60-M